DEPARTMENT OF AGRICULTURE

Rural Utilities Service

[Docket No.: RUS-24-WATER-0006]

60-Day Notice of Proposed Information Collection: Grant Program To Establish a Revolving Fund Program (RFP) To Finance Water and Wastewater Projects, 7 CFR 1783; OMB Control No.: 0572-0138

AGENCY: Rural Utilities Service (RUS), USDA.

ACTION: Notice; request for comment.

SUMMARY: In accordance with the Paperwork Reduction Act of 1995, as amended, the United States Department of Agriculture (USDA) Rural Utilities Service (RUS) announces its' intention to request a revision of a currently approved information collection and invites comments on this information collection.

DATES: Comments on this notice must be received by May 7, 2024, to be assured of consideration.

ADDRESSES: Comments may be submitted by the Federal eRulemaking Portal: Go to http://www.regulations.gov and, in the “Search Field” box, labeled “Search for dockets and documents on agency actions,” enter the following docket number: (RHS-24-WATER-0006), and click “Search.” To submit public comments, select the “Comment” button. Before inputting your comments, you may also review the “Commenter's Checklist” (optional). Insert your comments under the “Comment” title, click “Browse” to attach files (if applicable). Input your email address and select an identity category then click “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, USDA, 1400 Independence Avenue SW, STOP 1522, South Building, Washington, DC 20250-1522. Telephone: (202) 720-7853. Email MaryPat.Daskal@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RHS is submitting to OMB for revision.

Title: Grant Program to Establish a Revolving Fund Program (RFP) to Finance Water and Wastewater Projects, 7 CFR 1783.

OMB Control Number: 0572-0138.

Expiration Date of Approval: July 31, 2024.

Type of Request: Revision of a currently approved information collection.

Estimate of Burden: Public reporting burden for this collection of information is estimated to average 7.30 hour per response.

Respondents: Individuals, partnerships, public and private non-profit corporations, agencies, institutions, organizations, and Indian tribes.

Estimated Number of Respondents: 4.

Estimated Number of Responses: 51.

Estimated Number of Responses per Respondent: 12.75.

Estimated Annual Reporting Burden on Respondents: 372.50 hours.

Abstract: The Rural Utilities Service (RUS) supports the sound development of rural communities and the growth of our economy without endangering the environment. One of the ways the Agency pursues this goal is to provide financial and technical assistance to help communities bring safe drinking water and sanitary, environmentally sound waste disposal facilities to rural Americans in greatest need. The Revolving Fund Program (RFP) helps qualified non-profits create a revolving loan fund that can provide financing for the extension and improvement of water and waste disposal systems in rural areas. Entities eligible for the revolving loan fund will be the same entities eligible to obtain a loan, loan guarantee, or grant from RUS Water and Waste Disposal and Wastewater loan and grant programs. As grant recipients, the non- profit organizations establish a revolving loan fund to provide loans to finance predevelopment costs of water or wastewater projects, or short-term small capital projects not part of the regular operation and maintenance of current water and wastewater systems. The collection of information consists of the materials to file a grant application with the agency, including forms, certifications and required documentation.

Comments are invited on: (a) whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent by the Federal eRulemaking Portal: Go to https://www.regulations.gov. Follow the instructions for submitting comments.

Copies of this information collection can be obtained from Kimble Brown, Rural Development Innovation Center, USDA, 1400 Independence Avenue SW, STOP 1522, South Building, Washington, DC 20250-1522. Telephone: (202) 720-6780. Email kimble.brown@usda.gov.

All responses to this notice will be summarized and included in the request for OMB approval. All comments will also become a matter of public record.

Andrew Berke,
Administrator, Rural Utilities Service.

[FR Doc. 2024-04944 Filed 3-7-24; 8:45 am]

BILLING CODE 3410-15-P